ENVIRONMENTAL PROTECTION AGENCY

[FRL-9911-18-Region-4; EPA-R04-OAR-2013-0647 and EPA-R04-OAR-2014-0023]

Notice of Issuance of Final Air Permits for EFS Shady Hills, LLC—Shady Hills Generating Station, and New Hope Power Company—Okeelanta Cogeneration Station.

AGENCY: Environmental Protection Agency.

ACTION: Notice of final action.

SUMMARY: The Environmental Protection Agency (EPA) is announcing that on January 14, 2014, and March 17, 2014, the agency issued final Prevention of Significant Deterioration (PSD) air quality permits numbered PSD-EPA-R4013 and PSD-EPA-R4016 for the EFS Shady Hills, LLC (Shady Hills)—Shady Hills Generating Station (SHGS) and New Hope Power Company (NHPC)—Okeelanta Cogeneration Station (Okeelanta), respectively.

ADDRESSES: The final permits, the EPA's response to public comments for these permits, and supporting information are available at http://www.epa.gov/region4/air/permits/index.htm. Copies of the final permits and the EPA's response to comments are also available for review at the EPA Regional Office and upon request in writing. The EPA requests that you contact the person listed in the FOR FURTHER INFORMATION CONTACT section to schedule your inspection. The Regional Office's official hours of business are Monday through Friday, 8:30 a.m. to 4:30 p.m. excluding Federal holidays.

FOR FURTHER INFORMATION CONTACT: Please contact Ms. Heather Ceron, Air Permits Section Chief, Air Planning Branch, Air, Pesticides and Toxics Management Division, Region 4, U.S. Environmental Protection Agency, 61 Forsyth Street SW., Atlanta, Georgia 30303-8960. The telephone number is (404) 562-9185. Ms. Ceron can also be reached via electronic mail at ceron.heather@epa.gov.

SUPPLEMENTARY INFORMATION: On September 24, 2013, EPA Region 4 requested public comments on a preliminary determination to issue a PSD air quality permit for the Shady Hills SHGS project. A total of 60 comments from 2 commenters were received (via email and the regulations.com site) during the public comment period, which closed on October 24, 2013.

On January 23, 2014, EPA Region 4 requested public comments on a preliminary determination to issue a PSD air quality permit for the NHPC Okeelanta project. A total of 9 comments from one commenter were received (via email) during the public comment period, which closed on February 24, 2014.

The EPA reviewed each comment received and prepared a Response to Comments document for each of the two projects. After consideration of the expressed view of all interested persons, the pertinent Federal statutes and regulations, the applications and supplemental information submitted by the applicants, and additional material relevant to the applications and contained in the Administrative Records, the EPA made final determinations in accordance with title 40 CFR part 52 to issue final air permits.

Under 40 CFR 124.19(f)(2), notice of any final Agency action regarding a PSD permit must be published in the Federal Register. Section 307(b)(1) of the Clean Air Act (CAA) provides for review of final Agency action that is locally or regionally applicable in the United States Court of Appeals for the appropriate circuit. Such a petition for review of final Agency action must be filed within 60 days from the date of notice of such action in the Federal Register. For purposes of judicial review under the CAA, final Agency action occurs when a final PSD permit is issued or denied by the EPA and Agency review procedures are exhausted, per 40 CFR 124.19(f)(1).

Any person who filed comments on the draft permits was provided the opportunity to petition the Environmental Appeals Board by the end of February 14, 2014, for the Shady Hills permit, or by the end of April 17, 2014, for the NHPC permit. No petitions were submitted for either of these permits. Therefore, the Shady Hills permit became effective on February 15, 2014. The NHPC permit became effective on April 18, 2014.

Dated: May 2, 2014.
Beverly H. Banister,
Director, Air, Pesticides and Toxics, Management Division, Region 4.

[FR Doc. 2014-11698 Filed 5-19-14; 8:45 am]

BILLING CODE 6560-50-P